FEDERAL RESERVE SYSTEM

Change in Bank Control Notices, Acquisition of Shares of Bank or Bank Holding Companies; Correction

This notice corrects a notice (FR Doc. E6-3708) published on page 13398 of the issue for Wednesday, March 15, 2006

Under the Federal Reserve Bank of San Francisco heading, the entry for Bruce Hsiu-I Shen family, Rancho Palos Verdes, California, is revised to read as follows:

A. Federal Reserve Bank of San Francisco (Tracy Basinger, Director, Regional and Community Bank Group) 101 Market Street, San Francisco, California 94105-1579:

1. The Shen Group, consisting of Bruce Hsiu-I Shen, Su Chin Lin Shen, Sen Fu Shen, Faye Shen, Rancho Palos Verdes, California; Ted Tai-Hsi Shen and Allison Chiang, San Marino, California, and Hsinya Shen, Palo Alto, California; to retain voting shares of American Premier Bancorp, Arcadia, California, and thereby indirectly retain voting shares of American Premier Bank, Arcadia, California.

Comments on this application must be received by March 30, 2006.

Board of Governors of the Federal Reserve System, March 16, 2006.
Robert deV. Frierson,
Deputy Secretary of the Board.

[FR Doc. E6-4062 Filed 3-20-06; 8:45 am]

BILLING CODE 6210-01-S